ENVIRONMENTAL PROTECTION AGENCY

40 CFR Part 81

[EPA-HQ-OAR-2012-0233; FRL-9781-3]

EPA Responses to State and Tribal 2010 Sulfur Dioxide Designation Recommendations: Notice of Availability and Public Comment Period

AGENCY: Environmental Protection Agency (EPA).

ACTION: Notice of availability and public comment period.

SUMMARY: Notice is hereby given that the EPA has posted its responses to certain state and tribal designation recommendations for the 2010 Sulfur Dioxide (SO2) National Ambient Air Quality Standards (NAAQS) on its Internet Web site. The EPA invites the public to review and provide input on its responses during the comment period specified in the DATES section. The EPA sent its responses directly to the states and tribes on or about February 7, 2013. These responses focus on designating as “nonattainment” certain areas of the country where air monitoring data from 2009-2011 indicate violations of the 2010 SO2 NAAQS. The EPA intends to make final the designation determinations for the areas of the country addressed by these responses in June 2013.

DATES: Comments must be received on or before March 18, 2013. Please refer to SUPPLEMENTARY INFORMATION for additional information on the comment period.

ADDRESSES: Submit your comments, identified by Docket ID No. EPA-HQ-OAR-2012-0233, by one of the following methods:

• http://www.regulations.gov. Follow the online instructions for submitting comments.

• Email: a-and-r-docket@epa.gov. Attention Docket ID No. EPA-HQ-OAR-2012-0233.

• Fax: 202-566-9744. Attention Docket ID No. EPA-HQ-OAR-2012-0233.

• Mail: Air Docket, Attention Docket ID No. EPA-HQ-OAR-2012-0233, Environmental Protection Agency, Mail Code: 6102T, 1200 Pennsylvania Ave. NW., Washington, DC 20460.

• Hand Delivery: EPA Docket Center, 1301 Constitution Avenue NW., Room 3334, Washington, DC. Such deliveries are only accepted during the Docket's normal hours of operation, and special arrangements should be made for deliveries of boxed information.

Instructions: Direct your comments to Docket ID No. EPA-HQ-OAR-2012-0233. The EPA's policy is that all comments received will be included in the public docket without change and may be made available online at www.regulations.gov, including any personal information provided, unless the comment includes information claimed to be confidential business information (CBI) or other information whose disclosure is restricted by statute. Do not submit information that you consider to be confidential business information or otherwise protected through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any disk or CD-ROM you submit. If the EPA is unable to read your comment and cannot contact you for clarification due to technical difficulties, the EPA may not be able to consider your input. Electronic files should avoid the use of special characters, any form of encryption, and be free of any defects or viruses. For additional information about the EPA's public docket, visit the EPA Docket Center homepage at http://www.epa.gov/epahome/dockets.htm. For additional instructions on submitting comments, go to Section II of the SUPPLEMENTARY INFORMATION section of this document.

Docket: All documents in the docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the EPA Docket Center, EPA West, Room 3334, 1301 Constitution Avenue NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For general questions concerning this action, please contact Rhonda Wright, U.S. EPA, Office of Air Quality Planning and Standards, Air Quality Planning Division, C539-04, Research Triangle Park, NC 27711, telephone (919) 541-1087, email at wright.rhonda@epa.gov. For questions regarding areas in EPA Region 1, please contact Donald Dahl, U.S. EPA, telephone (617) 918-1657, email at dahl.donald@epa.gov. For questions regarding areas in EPA Region 2, please contact Kenneth Fradkin, U.S. EPA, telephone (212) 637-3702, email at fradkin.kenneth@epa.gov. For questions regarding areas in EPA Region 3, please contact Irene Shandruk, U.S. EPA, telephone (215) 814-2166, email at shandruk.irene@epa.gov. For questions regarding areas in EPA Region 4, please contact Lynorae Benjamin, U.S. EPA, telephone (404) 562-9040, email at benjamin.lynorae@epa.gov. For questions regarding areas in EPA Region 5, please contact John Summerhays, U.S. EPA, telephone (312) 886-6067, email at summerhays.john@epa.gov. For questions regarding areas in EPA Region 6, please contact Dayana Medina, U.S. EPA, telephone (214) 665-7241, email at medina.dayana@epa.gov. For questions regarding areas in EPA Region 7, please contact Larry Gonzalez, U.S. EPA, telephone (913) 551-7041, email at gonzalez.larry@epa.gov. For questions regarding areas in EPA Region 8, please contact Crystal Ostigaard, U.S. EPA, telephone (303) 312-6602, email at ostigaard.crystal@epa.gov. For questions regarding areas in EPA Region 9, please contact John Kelly, U.S. EPA, telephone (415) 947-4151, email at kelly.johnj@epa.gov. For questions regarding areas in EPA Region 10, please contact Steve Body, U.S. EPA, telephone (206) 553-0782, email at body.steve@epa.gov.

SUPPLEMENTARY INFORMATION:

I. Background and Purpose

On June 2, 2010, the EPA Administrator signed a notice of final rulemaking that revised the primary SO2 NAAQS (75 FR 35520, published on June 22, 2010) after review of the existing two primary SO2 standards promulgated on April 30, 1971 (36 FR 8187). The EPA established the revised primary SO2 NAAQS at 75 parts per billion (ppb) which is attained when the 3-year average of the annual 99th percentile of 1-hour daily maximum concentrations does not exceed 75 ppb.

The process for designating areas following promulgation of a new or revised NAAQS is contained in the Clean Air Act (CAA) section 107(d) (42 U.S.C. 7407). After promulgation of a new or revised NAAQS, each governor or tribal leader has an opportunity to recommend air quality designations, including the appropriate boundaries for nonattainment areas, to the EPA. The EPA considers these recommendations as part of its duty to promulgate the formal area designations and boundaries for the new or revised NAAQS. By no later than 120 days prior to promulgating designations, the EPA is required to notify states and tribes of any intended modifications to an area designation or boundary recommendation that the EPA deems necessary.

On or around February 7, 2013, the EPA notified states and tribes of its intended designation of certain specific areas as nonattainment for the 2010 SO2 NAAQS. States and tribes now have an opportunity to demonstrate why they believe an intended modification by the EPA regarding those specified areas may be inappropriate. The EPA encouraged states and tribes to provide comments and additional information for consideration by the EPA in finalizing designations for these specified areas. The EPA plans to make final designation decisions for these areas for the 2010 SO2 NAAQS in June 2013.

The purpose of this notice is to solicit input from interested parties other than states and tribes on the EPA's recent responses regarding these areas to the state and tribal designation recommendations for the 2010 SO2 NAAQS. These responses, and their supporting technical analyses, can be found on the EPA's Internet Web site at http://www.epa.gov/so2designations and also in the public docket for SO2 designations at Docket ID No. EPA-HQ-OAR-2012-0233. CAA section 107(d) provides a process for air quality designations that involves recommendations by states and tribes to the EPA and responses from the EPA to those parties, prior to the EPA promulgating final area designations and boundaries. The EPA is not required under CAA section 107(d) to seek public comment during the designation process, but is electing to do so for these areas under the 2010 SO2 NAAQS in order to gather additional information for the EPA to consider before making final designations for the specific areas addressed in the EPA's recent responses to states and tribes. The EPA invites public input on its responses to states and tribes regarding these areas during the 30-day comment period provided in this notice. In order to receive full consideration, input from the public must be submitted by March 18, 2013. At this time, the EPA is not asking for public comments on other areas for which states and tribes have submitted designation recommendations, beyond those to which the EPA has provided the responses that are the subject of this proposed action. This notice and opportunity for public comment does not affect any rights or obligations of any state, tribe or the EPA which might otherwise exist pursuant to CAA section 107(d).

Please refer to the ADDRESSES section above in this document for specific instructions on submitting comments and locating relevant public documents.

In establishing nonattainment area boundaries, the EPA is required to identify the area that does not meet the 2010 SO2 NAAQS and any nearby area that is contributing to the area that does not meet that standard. We are particularly interested in receiving comments, supported by relevant information, if you believe that a specific geographic area that the EPA is proposing to identify as a nonattainment area should not be categorized by the CAA section 107(d) criteria as nonattainment, or if you believe that a specific nearby area not proposed by the EPA to be identified as contributing to a nonattainment area should in fact be categorized as contributing to nonattainment using the CAA section 107(d) criteria. Please be as specific as possible in supporting your views.

• Describe any assumptions and provide any technical information and/or data that you used.

• Provide specific examples to illustrate your concerns, and suggest alternatives.

• Explain your views as clearly as possible.

• Make sure to provide your input by the comment period deadline identified.

At this point, the EPA is prepared to proceed with identifying as “nonattainment” most areas in locations where available monitoring data from 2009-2011 indicate violations of the 1-hour SO2 standard. The EPA intends to complete designations for these nonattainment areas in June 2013. The EPA is not yet prepared to respond to state and tribal area designation recommendations, or seek public input thereon, for other areas, and intends to address those areas in a subsequent round or multiple rounds of responses and designations. Additional information on the EPA's intended approach for addressing designations for all areas can be found on the EPA's SO2 implementation Web site at http://www.epa.gov//airquality/sulfurdioxide/implementation.html. Please be advised that, in this action, the EPA is not proposing as a regulatory action and is not soliciting public comments on the intended approach for these other areas, regarding either designations or implementation. The EPA expects its final designations regarding the specific areas addressed in this action to be limited to those areas and any areas that are found to be contributing to ambient air quality in those areas.

To date, the EPA has identified 30 areas as not meeting the 2010 SO2 NAAQS based on the most recent certified air quality monitoring data from 2009-2011, and is intending to designate most of these areas as nonattainment.

II. Instructions for Submitting Public Comments and Internet Web Site for Rulemaking Information

A. What should I consider as I prepare my comments for the EPA?

1. Submitting CBI. Do not submit this information to the EPA through www.regulations.gov or email. Clearly mark the part or all of the information that you claim to be CBI. For CBI in a disk or CD ROM that you mail to the EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2. Send or deliver information identified as CBI only to the following address: Roberto Morales, U.S. EPA, Office of Air Quality Planning and Standards, Mail Code C404-02, Research Triangle Park, NC 27711, telephone (919) 541-0880, email at morales.roberto@epa.gov, Attention Docket ID No. EPA-HQ-OAR-2012-0233.

2. Tips for Preparing Your Comments. When submitting comments, remember to:

• Identify the rulemaking by docket number and other identifying information (subject heading, Federal Register date and page number).

• Follow directions.

• Explain why you agree or disagree; suggest alternatives and substitute language for your requested changes.

B. Where can I find additional information for this rulemaking?

The EPA has also established a Web site for this rulemaking at http://www.epa.gov/so2designations. The Web site includes the EPA's state and tribal designation recommendations, information supporting the EPA's preliminary designation decisions, as well as the rulemaking actions and other related information that the public may find useful.

Dated: February 7, 2013.
Jennifer Noonan Edmonds,
Acting Director, Office of Air Quality Planning and Standards.

[FR Doc. 2013-03593 Filed 2-14-13; 8:45 am]

BILLING CODE 6560-50-P